DEPARTMENT OF HEALTH AND HUMAN SERVICES

Centers for Disease Control and Prevention

Disease, Disability, and Injury Prevention and Control

Special Emphasis Panel (SEP): Preparedness and Emergency Response Learning Centers (PERLC) Panel, Request for Applications (RFA) TP10-1001, Initial Review

In accordance with section 10(a)(2) of the Federal Advisory Committee Act (Pub. L. 92-463), the Centers for Disease Control and Prevention (CDC), announces the aforementioned meeting:

Times and Dates: 8:30 a.m.-5 p.m., July 27, 2010 (Closed). 8:30 a.m.-5 p.m., July 28, 2010 (Closed). 8:30 a.m.-5 p.m., July 29, 2010 (Closed).

Place: The W Atlanta Hotel-Perimeter, Perimeter Center West, Atlanta, Georgia 30346, Telephone: (770) 396-6800.

Status: The meeting will be closed to the public in accordance with provisions set forth in Section 552b(c)(4) and (6), Title 5, U.S.C., and the Determination of the Director, Management Analysis and Services Office, CDC, pursuant to Section 10(d) of Public Law 92-463.

Matters To Be Discussed: The meeting will include the initial review, discussion, and evaluation of applications received in response to “Preparedness and Emergency Response Learning Centers (PERLC) Panel, RFA TP10-1001.”

Agenda items are subject to change as priorities dictate.

Contact Person for More Information: Shoukat Qari, Senior Scientific Program Official, Extramural Research Program, Office of Public Health Preparedness and Response, 1600 Clifton Road, Mailstop D-44, Atlanta, Georgia 30333, Telephone: (404) 639-7938, E-mail: SQari@cdc.gov.

The Director, Management Analysis and Services Office has been delegated the authority to sign Federal Register notices pertaining to announcements of meetings and other committee management activities for both CDC and the Agency for Toxic Substances and Disease Registry.

Dated: July 2, 2010.
Elaine L. Baker,
Director, Management Analysis and Services Office, Centers for Disease Control and Prevention.

[FR Doc. 2010-16741 Filed 7-8-10; 8:45 am]

BILLING CODE 4163-18-P